DEPARTMENT OF STATE

[Public Notice 12753]

60-Day Notice of Proposed Information Collection: Request for Department of State Personal Identification Card

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to September 8, 2025.

ADDRESSES: You may submit comments by any of the following methods:

• Web: Persons with access to the internet may comment on this notice by going to www.Regulations.gov. You can search for the document by entering “Docket Number: DOS-2025-0038 in the Search field. Then click the “Comment Now” button and complete the comment form.

• Email: FergusonJM3@state.gov.

Regular Mail: DS/DO/DFP, Harry S Truman, 2201 C St. NW, Washington, DC 20520-0000, Room B237.

You must include the DS form number (if applicable), information collection title, and the OMB control number in any correspondence.

FOR FURTHER INFORMATION CONTACT: Direct requests for additional information regarding the collection listed in this notice, including requests for copies of the proposed collection instrument and supporting documents to John Ferguson, who may be reached on (202) 647-0511 or at fergusonjm3@state.gov.

SUPPLEMENTARY INFORMATION:

• Title of Information Collection: Request for Department of State Personal Identification Card.

• OMB Control Number: 1405-0232.

• Type of Request: Renewal of a currently approved collection.

• Originating Office: Diplomatic Security, Domestic Operations, Security Support Division (DS/DO/DFP/SSD).

• Form Number: DS-1838 and DS-7783.

• Respondents: Department employees and contractors.

• Estimated Number of Respondents: 13,500.

• Estimated Number of Responses: 13,500.

• Average Time per Response: 5 minutes.

• Total Estimated Burden Time: 1,125 hours per year.

• Frequency: On occasion (when new badge is required, or badge expires).

• Obligation to Respond: Mandatory.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The collection of the information requested on the DS-1838 and DS-7783 is necessary to comply with:

Homeland Security Presidential Directive 12 (HSPD-12) was issued August 27, 2004 to set policy for a common, reliable, and secure identification standard for federal employees and contractors for accessing federally controlled facilities and federal information systems. In order to keep Federal and other facilities where there is potential for terrorist attacks secure, wide variations in the quality and security of forms of identification need to be eliminated.

Federal Information Processing Standard Publication 201 (FIPS 201) is a United States federal government standard that specifies Personal Identity Verification (PIV) requirements for Federal employees and contractors. The NIST (National Institute of Standards and Technology) Computer Security Division initiated a new program for improving the identification and authentication of Federal employees and contractors for access to Federal facilities and information systems.

All Department employees and contractors are required to submit application for a Personal Identification Card (DS-1838 domestically or DS-7783 overseas) at the time of hire.

Methodology

Information is collected by a form (obtained from MyData forms) or automated badge request (ABR) online.

Gregory C. Batman,
Deputy Assistant Secretary, Acting, Diplomatic Security, Department of State.

[FR Doc. 2025-12645 Filed 7-7-25; 8:45 am]

BILLING CODE 4710-43-P